DEPARTMENT OF HOUSING AND URBAN DEVELOPMENT

[Docket No. FR-5981-D-02]

Redelegation of Authority to the Deputy Assistant Secretaries in the Office of Community Planning and Development

AGENCY: Office of the Assistant Secretary for Community Planning and Development, HUD.

ACTION: Notice of Redelegation of Authority to Deputy Assistant Secretaries in Community Planning and Development.

SUMMARY: Section 7(d) of the Department of Housing and Urban Development Act, as amended, provides authority to the Secretary to delegate functions, powers, and duties as the Secretary deems necessary. By separate notice published in today's Federal Register, the Secretary of HUD delegates concurrent authority to the Assistant Secretary for Community Planning and Development, the Principal Deputy Assistant Secretary for Community Planning and Development, and the General Deputy Assistant Secretary for Community Planning and Development. In this notice, the Assistant Secretary of Community Planning and Development, the Principal Deputy Assistant Secretary for Community Planning and Development, and the General Deputy Assistant Secretary for Community Planning and Development redelegate to the Deputy Assistant Secretaries and other specified HUD officials all powers and authorities necessary to carry out Office of Community Planning and Development (CPD) programs, except for those powers and authorities specifically excluded.

DATES: Effective Date: January 10, 2017.

FOR FURTHER INFORMATION CONTACT: Cliff Taffet, General Deputy Assistant Secretary, Office of Community Planning and Development, Department of Housing and Urban Development, 451 7th Street SW., Room 7100, Washington, DC 20410-7000; telephone number 202-708-2690. This is not a toll-free number. For those needing assistance, this number may be accessed via TTY by calling the Federal Relay Service at 800-877-8339.

SUPPLEMENTARY INFORMATION:

Published elsewhere today in the Federal Register is a revised consolidated delegation of authority from the Secretary to the Assistant Secretary for Community Planning and Development, the Principal Deputy Assistant Secretary for Community Planning and Development, and the General Deputy Assistant Secretary for Community Planning and Development. This notice updates and revises redelegations of authority to Deputy Assistant Secretaries within the Office of Community Planning and Development. This notice supersedes all previous redelegations of authority by the Assistant Secretary for Community Planning and Development to CPD Deputy Assistant Secretaries and other specified HUD officials in CPD, including a redelegation published on June 29, 2012 at 77 FR 38853. Also published elsewhere in today's Federal Register is a redelegation of authority from the Assistant Secretary for Community Planning and Development, the Principal Deputy Assistant Secretary for Community Planning and Development, and the General Deputy Assistant Secretary for Community Planning and Development to Directors and Deputy Directors of CPD in HUD Field Offices.

Section A. General Redelegation of Authority

1. Deputy Assistant Secretary for Grant Programs

Except those authorities specifically excluded, the Assistant Secretary for Community Planning and Development, the Principal Deputy Assistant Secretary for Community Planning and Development, and the General Deputy Assistant Secretary for Community Planning and Development redelegate to the Deputy Assistant Secretary for Grant Programs all powers and authorities necessary to carry out the following Community Planning and Development programs and matters:

a. Comprehensive Housing Affordability Strategies (CHAS), Title I of the Cranston-Gonzalez National Affordable Housing Act, Public Law 101-625, 104 Stat. 4079 (1990) (codified as amended at 42 U.S.C. 12701 et seq.); consolidated plans, 24 CFR part 91.

b. The HOME Investment Partnerships Act, Title II of the Cranston-Gonzalez National Affordable Housing Act, Public Law 101-625, 104 Stat. 4079 (1990) (codified as amended at 42 U.S.C. 12721 et seq.); 24 CFR part 92.

c. Housing Trust Fund (HTF), Section 1338 of the Federal Housing Enterprises Financial Safety and Soundness Act of 1992, added by Section 1131 of Public Law 110-289, 122 Stat. 2654 (codified at 12 U.S.C. 4568).

d. Tax Credit Assistance Program (TCAP) as authorized under the HOME Investments Partnership Program heading of Division A, Title XII of American Recovery and Reinvestment Act of 2009, Public Law 111-5, 123 Stat. 115, 220-21.

e. Title I of the Housing and Community Development Act of 1974, Public Law 93-383, 88 Stat. 633 (codified as amended at 42 U.S.C. 5301 et seq.); 24 CFR part 570 including:

(1) Community Development Block Grant (CDBG) program;

(2) Section 108 Loan Guarantee program;

(3) Economic development grants pursuant to Section 108(q);

(4) Urban Development Action Grants

(5) Neighborhood Stabilization Programs Under Housing and Economic Recovery Act of 2008, Public Law 110-289, 122 Stat. 2850; Title XII of Division A of the American Recovery and Reinvestment Act of 2009, Public Law 111-5, 123 Stat. 115; and Section 1497 of the Wall Street Reform and Consumer Protection Act of 2010, Public Law 111-203, 124 Stat. 1376 (codified as amended at 42 U.S.C. 5301 note);

(6) CDBG Disaster Recovery Grants as provided for in annual and supplemental HUD appropriations acts; and

(7) Appalachian Regional Commission grants pursuant to section 214 of the Appalachian Regional Development Act of 1965, Public Law 89-4, 79 Stat. 5 (codified as amended at 40 U.S.C. 14507) and consistent with the CDBG program authorized under Title I of the Housing and Community Development Act of 1974, Public Law 93-383, 88 Stat. 633 (codified as amended at 42 U.S.C. 5301 et seq.).

f. Overall Departmental responsibility for policies, standards, procedures, and advisory materials for compliance with the Uniform Relocation Assistance and Real Property Acquisition Policies Act of 1970, Public Law 91-646, 84 Stat. 1894 (1971) (codified as amended at 42 U.S.C. 4601 et seq.); 49 CFR part 24 (except for the authority to exercise the Federal Agency waiver authority provided under 49 CFR 24.7).

g. Environment, overall Departmental responsibility for compliance with the National Environmental Policy Act of 1969 (NEPA), Public Law 91-190, 83 Stat. 852 (1970) (codified as amended at 42 U.S.C. 4321-4347), and the related laws and authorities cited in 24 CFR 50.4 and 58.5. The Director of the Office of Environment and Energy, within the Office of the Deputy Assistant Secretary for Grant Programs, is designated to serve as the Departmental Environmental Clearance Officer (DECO). The DECO serves as the Departmental lead in all federal initiatives that address NEPA and other federal environmental laws and authorities cited in 24 CFR 50.4 and 58.5 and as the Departmental signatory for environmental compliance MOUs with other federal agencies addressing compliance at the regional and national level.

h. Slum Clearance and Urban Renewal Program Under Title I of the Housing Act of 1949, Public Law 81-171, 63 Stat. 413 and any program that is superseded or inactive by, or inactive by reason of, Title I of the Housing and Community Development Act of 1974, Public Law 93-383, 88 Stat. 633 (codified as amended at 42 U.S.C. 5316).

i. Rental Rehabilitation Program, United States Housing Act of 1937 § 17, Public Law 98-181, 97 Stat. 1196 (repealed 1990); 24 CFR part 511.

j. Section 312 Rehabilitation Loan Program, Housing Act of 1964 § 312, Public Law 88-560, 78 Stat. 769 (repealed 1990); 24 CFR part 510.

k. Homeownership Zone Initiative (HOZ) grants as provided for in section 205 of the Departments of Veterans Affairs and Housing and Urban Development, and Independent Agencies Appropriations Act, 1997, Public Law 104-204, 110 Stat. 2874 (1996) and funded with recaptured Nehemiah grants authorized under Title VI of the Housing and Community Development Act of 1987, Pub. L. 100-242, 101 Stat. 1815 (1988) (codified at 12 U.S.C. 17151 note).

l. HOPE for Homeownership of Single-family Housing Program (HOPE 3), Title IV, Subtitle C of the Cranston-Gonzalez National Affordable Housing Act, Public Law 101-625, 104 Stat. 4079 (1990) (codified at 42 U.S.C. 12891).

m. New Communities Program, Section 413 of the Housing and Urban Development Act of 1968, Public Law 90-448, 82 Stat. 476 (repealed 1983), Section 726 of the Housing and Urban Development Act of 1970, Public Law 91-609 (repealed 1983), 84 Stat. 1784, Section 474 of the Housing and Urban-Rural Recovery Act of 1983, Public Law 98-181, 97 Stat. 1237 (codified at 12 U.S.C. 1701g-5b), and any other functions, powers and duties which may affect the liquidation of the New Communities program.

n. Technical assistance and capacity building awards authorized under any program or matter listed in Section A.1 and as provided for in annual and supplemental HUD appropriations acts (e.g., Consolidated Appropriations Act 2010, Pub. L. 111-117, 123 Stat. 3093 (2009)). Further, in the absence of the Deputy Assistant Secretary for Grant Programs, the Assistant Secretary for Community Planning and Development, the Principal Deputy Assistant Secretary for Community Planning and Development, and the General Deputy Assistant Secretary for Community Planning and Development redelegate to the Director of the Office of Block Grant Assistance all powers and authorities of the Assistant Secretary necessary to carry out programs and matters listed in of Section A.1. paragraphs e. and h. Further, in the absence of the Deputy Assistant Secretary for Grant Programs, the Assistant Secretary for Community Planning and Development, the Principal Deputy Assistant Secretary for Community Planning and Development, and the General Deputy Assistant Secretary for Community Planning and Development redelegate to the Director of the Office of Affordable Housing Programs all powers and authorities of the Assistant Secretary for Community Planning and Development, the Principal Deputy Assistant Secretary for Community Planning and Development, and the General Deputy Assistant Secretary for Community Planning and Development necessary to carry out programs and matters listed in Section A.1. paragraphs b, c, d, f, g, and k.

2. Deputy Assistant Secretary for Special Needs

Except those authorities specifically excluded, the Assistant Secretary for Community Planning and Development, the Principal Deputy Assistant Secretary for Community Planning and Development, and the General Deputy Assistant Secretary for Community Planning and Development redelegate to the Deputy Assistant Secretary for Special Needs all powers and authorities necessary to carry out the following Community Planning and Development programs and matters:

a. Title IV of the McKinney-Vento Homeless Assistance Act, Public Law 100-77, 101 Stat. 482 (1987) (codified as amended at 42 U.S.C. 11301 et seq.), including the following: Emergency Shelter Grants/Emergency Solutions Grants Program, 24 CFR part 576; Supportive Housing program, 24 CFR part 583; Shelter Plus Care program, 24 CFR part 582; Moderate Rehabilitation for Single Room Occupancy program, 24 CFR part 882, subpart H; Continuum of Care program, 24 CFR part 578; Rural Housing Stability Assistance program.

b. Base Closure, Base Closure Community Redevelopment and Homeless Assistance Act of 1994, Public Law 103-421, 108 Stat. 4352 (codified as amended at 10 U.S.C. 2687 note); 24 CFR part 586.

c. Homelessness Prevention and Rapid Re-Housing Program (HPRP), as authorized under the Homelessness Prevention Fund heading of Division A, Title XII of the American Recovery and Reinvestment Act of 2009, Public Law 111-5, 123 Stat. 115.

d. Title V of the McKinney-Vento Homeless Assistance Act, Public Law 100-77, 101 Stat. 482 (1987) (codified as amended 42 U.S.C. 11411 et seq.), 24 CFR part 581.

e. Veterans Homelessness Prevention Demonstration Program, as provided for in annual HUD appropriations act(s) (e.g., Omnibus Appropriations Act, 2009, Pub. L. 111-8, 123 Stat. 524 (2009)).

f. AIDS Housing Opportunity Act, Title VIII, Subtitle D of the Cranston-Gonzalez National Affordable Housing Act, Public Law 101-625, 104 Stat. 4079 (1990) (codified as amended at 42 U.S.C. 12901-12912); 24 CFR part 574.

Further, in the absence of the Deputy Assistant Secretary for Special Needs, the Assistant Secretary for Community Planning and Development, the Principal Deputy Assistant Secretary for Community Planning and Development, and the General Deputy Assistant Secretary for Community Planning and Development redelegate to the Director of the Office of Special Needs Programs all powers and authorities of the Assistant Secretary for Community Planning and Development, the Principal Deputy Assistant Secretary for Community Planning and Development, and the General Deputy Assistant Secretary for Community Planning and Development necessary to carry out programs and matters listed in Section A.2. paragraphs a., b., c., d., and e. Further, the Assistant Secretary for Community Planning and Development, the Principal Deputy Assistant Secretary for Community Planning and Development, and the General Deputy Assistant Secretary for Community Planning and Development redelegate to the Director of the Community Assistance Division the authority to sign notices of available properties and subsequent letters regarding the properties under Title V of the McKinney-Vento Homeless Assistance Act (codified as amended 42 U.S.C. 11411 et seq.). Further, in the absence of the Deputy Assistant Secretary for Special Needs, the Assistant Secretary for Community Planning and Development, the Principal Deputy Assistant Secretary for Community Planning and Development, and the General Deputy Assistant Secretary for Community Planning and Development redelegate to the Director of the Office of HIV/AIDS Housing all powers and authorities of the Assistant Secretary for Community Planning and Development, the Principal Deputy Assistant Secretary for Community Planning and Development, and the General Deputy Assistant Secretary for Community Planning and Development necessary to carry out programs and matters listed in Section A.2. paragraph f.

3. Deputy Assistant Secretary for Economic Development

Except those authorities specifically excluded, the Assistant Secretary for Community Planning and Development, the Principal Deputy Assistant Secretary for Community Planning and Development, and the General Deputy Assistant Secretary for Community Planning and Development redelegate to the Deputy Assistant Secretary for Economic Development all powers and authorities necessary to carry out the following Community Planning and Development programs and matters:

a. The Loan Guarantee Recovery Program under Section 4 of the Church Arson Prevention Act of 1996, Public Law 104-155, 110 Stat. 1392; 24 CFR part 573.

b. Neighborhood Initiatives grants specifically designated in annual HUD appropriations acts (e.g., Consolidated Appropriations Act 2010, Pub. L. 111-117, 123 Stat. 3034 (2009)).

c. Rural Innovation Fund grants as provided for in annual HUD appropriations act(s) (e.g., Consolidated Appropriations Act 2010, Pub. L. 111-117, 123 Stat. 3084 (2009)).

d. Rural Housing and Economic Development grants specifically designated originally in the Fiscal Year 1998 HUD Appropriations Act, Public Law 105-65, 111 Stat. 1344 1997, and subsequent annual HUD appropriations acts.

e. Self-Help Homeownership Opportunity Program (SHOP) under section 11 of the Housing Opportunity Program Extension Act of 1996, Public Law 104-120, 110 Stat. 834 (codified as amended at 42 U.S.C. 12805 note).

f. Pilot Program to Rehabilitate and Modify Homes of Disabled and Low-Income Veterans, as authorized under section 1079 of the Carl Levin and Howard P. “Buck” McKeon National Defense Authorization Act for Fiscal Year 2015, Public Law 113-291, 128 Stat. 3292, 3521-3524 (2014).

Further, in the absence of the Deputy Assistant Secretary for Economic Development, the Assistant Secretary for Community Planning and Development, the Principal Deputy Assistant Secretary for Community Planning and Development, and the General Deputy Assistant Secretary for Community Planning and Development redelegate to the Director of the Rural Housing and Economic Development Division all powers and authorities of the Assistant Secretary for Community Planning and Development, the Principal Deputy Assistant Secretary for Community Planning and Development, and the General Deputy Assistant Secretary for Community Planning and Development necessary to carry out programs and matters listed in Section A.3.

4. Deputy Assistant Secretary for Operations

Except those authorities specifically excluded, the Assistant Secretary for Community Planning and Development, the Principal Deputy Assistant Secretary for Community Planning and Development, and the General Deputy Assistant Secretary for Community Planning and Development redelegate to the Deputy Assistant Secretary for Operations and the Director of Technical Assistance and Management all powers and authorities of the Assistant Secretary for Community Planning and Development, the Principal Deputy Assistant Secretary for Community Planning and Development, and the General Deputy Assistant Secretary for Community Planning and Development necessary to carry out the following Community Planning and Development programs and matters:

a. Technical Assistance and Capacity Building awards authorized under any program or matter delegated to the Assistant Secretary for Community Planning and Development, the Principal Deputy Assistant Secretary for Community Planning and Development, and the General Deputy Assistant Secretary for Community Planning and Development (e.g., section 107 of the Housing and Community Development Act of 1987, as amended and Section 4 Capacity Building for Community Development and Affordable Housing Grants program as authorized by Section 4 of the HUD Demonstration Act of 1993 (Pub. L. 103-120, 107 Stat. 1148, 42 U.S.C. 9816 note), as amended, and as provided for in annual and supplemental HUD appropriations acts (e.g., Consolidated Appropriations Act 2010, Pub. L. 111-117, 123 Stat. 3093 (2009)).

b. All programs consolidated in the Revolving Fund (Liquidating Programs) established pursuant to Title II of the Independent Offices Appropriations Act, Public Law 98-45, 97 Stat. 223 (1983) (codified at 12 U.S.C. 1701g-5), including all authority of the Assistant Secretary with respect to functions, administration and management of the Revolving Fund (Liquidating Programs). Only the Assistant Secretary for Community Planning and Development, the Principal Deputy Assistant Secretary for Community Planning and Development, and the General Deputy Assistant Secretary for Community Planning and Development are the responsible officials for allotments in the Revolving Fund (Liquidating Programs).

c. Economic Development Initiative grants, as provided for in annual HUD appropriations acts (e.g., Consolidated Appropriations Resolution, Fiscal Year 2003, Pub. L. 108-7, 117 Stat. 11 (2003)).

d. Grants for urban Empowerment Zones (EZ) as provided for in annual HUD appropriations acts (e.g., Consolidated Appropriations Resolution, Fiscal Year 2003, Pub. L. 108-7, 117 Stat. 11 (2003)).

e. Neighborhood Initiatives grants specifically designated in annual HUD appropriations acts (e.g., Consolidated Appropriations Act 2010, Pub. L. 111-117, 123 Stat. 3034 (2009)).

f. Rural Innovation Fund grants as provided for in annual HUD appropriations act(s) (e.g., Consolidated Appropriations Act 2010, Pub. L. 111-117, 123 Stat. 3084 (2009)).

g. The Renewal Communities (RC) Initiative as authorized under title 26, subtitle A, chapter 1, subchapter X of the Internal Revenue Code, as amended, 26 U.S.C. 1400E et seq.; 24 CFR part 599.

h. The urban Empowerment Zones (EZ), as authorized under title 26, subtitle A, chapter 1, subchapter U of the Internal Revenue Code (codified as amended at 26 U.S.C. 1391 et seq.); 24 CFR parts 597 and 598.

Section B. General Authority Excepted

The authority redelegated under Section A does not include:

1. The authority to issue or waive regulations covered by section 7(q) of the Department of Housing and Urban Development Act;

2. The authority to exercise the Federal Agency waiver authority provided under 49 CFR 24.7;

3. The authority to enter regulations or directives into Departmental clearance; or

4. Any authority not delegated to the Assistant Secretary for Community Planning and Development, the Principal Deputy Assistant Secretary for Community Planning and Development, and the General Deputy Assistant Secretary for Community Planning and Development under the Consolidated Delegation of Authority for Community Planning and Development. The Assistant Secretary for Community Planning and Development, the Principal Deputy Assistant Secretary for Community Planning and Development, or the General Deputy Assistant Secretary for Community Planning and Development may revoke at any time this redelegation with respect to the programs and matters listed in Section A.

Section C. Authority To Further Redelegate

The authority redelegated in Section A may be further redelegated to employees of the Department.

Section D. Redelegations Superseded

This notice supersedes all prior redelegations of authority to Deputy Assistant Secretaries of Community Planning and Development, including the redelegation of authority published on June 29, 2012 at 77 FR 38853.

Section E. Actions Ratified

The Assistant Secretary for Community Planning and Development, the Principal Deputy Assistant Secretary for Community Planning and Development, and the General Deputy Assistant Secretary for Community Planning and Development hereby ratify all actions previously taken by the Deputy Assistant Secretaries for Community Planning and Development, with respect to the programs and matters listed in Section A.

Authority: Section 7(d), Department of Housing and Urban Development Act, 42 U.S.C. 3535(d).

Dated: January 10, 2017.
Harriet Tregoning,
Principal Deputy Assistant Secretary for Community Planning and Development.

[FR Doc. 2017-01244 Filed 1-18-17; 8:45 am]

BILLING CODE 4210-67-P